DEPARTMENT OF THE INTERIOR

Bureau of Land Management

[LLORB06000.L17110000.PA0000.L.X.SS.021H0000; HAG-10-0143]

Notice of Public Meetings for the Steens Mountain Advisory Council

AGENCY: Bureau of Land Management, Interior.

ACTION: Notice of public meetings.

SUMMARY: In accordance with the Steens Mountain Cooperative Management and Protection Act of 2000, the Federal Land Policy and Management Act, and the Federal Advisory Committee Act of 1972, the U.S. Department of the Interior, Bureau of Land Management, Steens Mountain Advisory Council (SMAC) has scheduled the following tentative meeting dates:

DATES: April 12 and 13, 2010 and September 16 and 17, 2010 at the Bureau of Land Management (BLM), Burns District Office; November 18 and 19, 2010 in Bend, Oregon; and July 1 and 2, 2010 in Diamond, Oregon. All meeting sessions begin between 8 a.m. and 8:30 a.m. local time, and usually end no later than 4:30 p.m., local time. Some sessions may end as early as 12 noon, local time. Other sessions may include a full or partial-day field tour.

ADDRESSES: The Burns District Office is located at 28910 Highway 20 West, Hines, Oregon, 97738. The July meeting will be held at the Diamond School on Diamond Lane in Diamond, Oregon. The November meeting will be at the Phoenix Inn Suites, 300 NW Franklin Avenue, Bend, Oregon.

FOR FURTHER INFORMATION CONTACT: Christi Courtemanche, BLM, Burns District Office, 28910 Highway 20 West, Hines, Oregon 97738, (541) 573-4541 or Christi_Courtemanche@blm.gov.

SUPPLEMENTARY INFORMATION: The SMAC was appointed by the Secretary of the Interior on August 14, 2001, pursuant to the Steens Mountain Cooperative Management and Protection Act of 2000 (Pub. L. 106-399) and most recently re-chartered in January 2010. The SMAC's purpose is to provide representative counsel and advice to the BLM regarding new and unique approaches to management of the land within the bounds of the Steens Mountain Cooperative Management and Protection Area; cooperative programs and incentives for landscape management that meet human needs, maintain and improve the ecological and economic integrity of the area; and preparation and implementation of a management plan for the Steens Mountain Cooperative Management and Protection Area.

Topics to be discussed by the SMAC at these meetings include the Steens Mountain Comprehensive Recreation Plan; North Steens Ecosystem Restoration Project implementation; Science Strategy; South Steens Water Development Project Environmental Assessment; easements and acquisitions; In-holder Access Environmental Assessment; and categories of interest such as wildlife, special designated areas, partnerships/programs, cultural resources, education/interpretation, volunteer-based information, adaptive management and socioeconomics; and other matters that may reasonably come before the SMAC.

All meetings are open to the public in their entirety, including field tours or other arrangements outside of the general business setting. Those interested in attending a field tour must provide personal transportation. Information to be distributed to the SMAC is requested prior to the start of each meeting. Public comment is generally scheduled from 3 p.m. to 3:30 p.m., local time, both days of each meeting, but may be scheduled at alternate times depending on the meeting agenda and location. The amount of time scheduled for public presentations may be extended when the authorized representative considers it necessary to accommodate all who seek to be heard regarding matters on the agenda.

Dated: February 23, 2010.
Kenny McDaniel,
District Manager.

[FR Doc. 2010-4887 Filed 3-8-10; 8:45 am]

BILLING CODE 4310-33-P